NUCLEAR REGULATORY COMMISSION

[Docket Nos. STN 50-456 and STN 50-457]

Exelon Generation Company, LLC; Notice of Consideration of Issuance of Amendment to Facility Operating License, Proposed No Significant Hazards Consideration Determination, and Opportunity for a Hearing

The U.S. Nuclear Regulatory Commission (the Commission) is considering issuance of an amendment to Facility Operating License Nos. NPF-72 and NPF-77, issued to Exelon Generation Company, LLC (the licensee) for operation of the Braidwood Station, Units 1 and 2, located in Will County, Illinois.

The proposed amendment would provide a temporary change to Technical Specification (TS) 3.7.9, “Ultimate Heat Sink (UHS).” Surveillance Requirement (SR) 3.7.9.2 verifies that average water temperature of the UHS is ≤100 °F every 24 hours as measured at the discharge of the operating Essential Service Water (SX) pumps. With the average water temperature of the UHS greater than 100 °F, the UHS must be declared inoperable in accordance with condition A. With the UHS inoperable, Condition A requires that both units be placed in Mode 3, i.e., Hot Standby, within six hours and Mode 5, i.e., Cold Shutdown, within 36 hours. The proposed amendment would provide a temporary change to increase the average temperature limit of the Ultimate Heat Sink (UHS) from 100 °F to 102 °F through September 30, 2001.

Prolonged hot weather in the area has resulted in the sustained elevated UHS. High temperatures and humidity during the daytime in conjunction with little cooling at night and little precipitation have resulted in elevated water temperature in Braidwood Station's UHS. There are no controllable measures that can be taken to immediately reduce the temperature of the UHS in that reduction of the heat input by derating the units would have a negligible short-term effect on the temperature of the UHS. The licensee has requested approval of the proposed change as soon as possible to avoid a potential shutdown of Braidwood Station, Units 1 and 2.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the proposed change involve a significant increase in the probability or consequences of an accident previously evaluated?

Analyzed accidents are assumed to be initiated by the failure of plant structures, systems or components. An inoperable Ultimate Heat Sink (UHS), which is the source of water for the Essential Service Water (SX) System, is not considered as an initiator of any analyzed events. The design basis analyses for Braidwood Station, Units 1 and 2, assume a UHS temperature of 100 °F. Further assessments have been performed which assumed an SX temperature of 102 °F. An UHS temperature of up to 102 °F does not increase the failure rate of systems, structures or components because the systems, structures or components have been evaluated for operation with SX temperatures of 102 °F and the design allows for higher temperatures than at which they presently operate.

This higher temperature does not have a significant impact on the Loss of Coolant Accident (LOCA) analysis or Containment analysis, and the non-LOCA analyses are unaffected. Therefore, continued operation with an UHS temperature ≤ 102 °F will not increase the consequences of an accident previously evaluated in the Byron/Braidwood Stations' Updated Final Safety Analysis Report (UFSAR). The proposed change does not involve any physical alteration of plant systems, structures or components. Based on the above, it has been determined that unit operation with an initial UHS temperature of 102 °F at the onset of previously evaluated accidents will result in the continued ability of the equipment and components supplied by the SX System to perform their intended safety functions.

Therefore, increasing the average water temperature limit of the UHS from ≤ 100 °F to ≤ 102 °F does not increase the consequences of any accident previously evaluated. Raising this limit does not introduce any new equipment, equipment modifications, or any new or different modes of plant operation, nor does it significantly affect the operational characteristics of any equipment or systems.

Therefore, the proposed temporary change does not involve a significant increase in the probability or consequences of an accident previously evaluated.

2. Does the proposed change create the possibility of a new or different kind of accident from any accident previously evaluated?

The proposed action does not involve physical alteration of the units. No new equipment is being introduced, and installed equipment is not being operated in a new or different manner. There is no significant change being made to the parameters within which the units are operated. There are no setpoints at which protective or mitigative actions are initiated that are affected by this proposed action. This proposed action will not significantly alter the manner in which equipment operation is initiated, nor will the function demands on credited equipment be changed. No alteration in the procedures that govern plant operation is proposed, and no change is being made to procedures relied upon to respond to an off-normal event. As such, no new failure modes are being introduced. The proposed action does not significantly alter assumptions made in the safety analysis. Therefore, the proposed action does not create the possibility of a new or different kind of accident from any accident previously evaluated.

Increasing the allowed average water temperature of the UHS by 2 °F in TS 3.7.9, “Ultimate Heat Sink (UHS),” has no impact on plant operation. Operating at the proposed higher temperature limit does not introduce new failure mechanisms for systems, structures or components. The engineering evaluations performed to support the change to UHS temperature limit provide the basis to conclude that the equipment will operate acceptably at elevated temperatures. The current design basis analyses and calculations assume a UHS temperature of 100 °F, and contain operating margins to account for potential degradations in material condition (e.g., tube plugging) which are more severe than currently present. Together with these operating margins, design and construction codes applied to the affected structures, systems and components provide additional margins that are sufficient to accommodate the proposed temperature change.

Therefore, the proposed temporary change does not create the possibility of a new or different kind of accident from any accident previously evaluated.

3. Does the proposed change involve a significant reduction in a margin of safety?

The proposed action allows operation with the UHS temperature ≤ 102 °F through September 30, 2001. The margin of safety is determined by the design and qualification of the plant equipment, the operation of the plant within analyzed limits, and the point at which protective or mitigative actions are initiated. The proposed action does not impact these factors. Further evaluations have determined acceptable component performance at 102 °F. This temperature increase will not significantly change the operational characteristics or the design of any equipment or system. The identified equipment margins are sufficient to ensure that the post-accident response is not significantly affected. Thus, the proposed increase in temperature does not involve a significant reduction in the margin of safety.

Therefore, the proposed temporary change does not involve a significant reduction in a margin of safety.

Overall Conclusion

Based upon the above assessments and evaluations, we have concluded that the proposed temporary change to the TS involves no significant hazards consideration.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By September 14, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's Public Document Room, located at One White Flint North, 11555 Rockville Pike (first floor), Rockville, Maryland, or electronically on the Internet at the NRC Web site http://www.nrc.gov/NRC/CFR/index.html. If there are problems in accessing the document, contact the Public Document Room Reference staff at 1-800-397-4209, 301-415-4737 or by email to pdr@nrc.gov. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Edward J. Cullen, Jr., Vice President and General Counsel, Exelon Generation Company, LLC, 300 Exelon Way KSB 3-W, Kennett Square, PA 19348, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated August 2, 2001, which is available for public inspection at the Commission's Public Document Room, located at One White Flint North, 11555 Rockville Pike (first floor), Rockville, Maryland. Publicly available records will be accessible electronically from the Agencywide Documents Access and Management Systems (ADAMS) Public Electronic Reading Room on the Internet at the NRC web site, http://www.nrc.gov/NRC/ADAMS/index.html. If you do not have access to ADAMS or if there are problems in accessing the documents located in ADAMS, contact the NRC Public Document Room Reference staff at 1-800-397-4209, 301-415-4737 or by e-mail to pdr@nrc.gov.

Dated at Rockville, Maryland, this 9th day of August, 2001.
For the Nuclear Regulatory Commission.
Mahesh Chawla,
Project Manager, Section 2, Project Directorate III, Division of Licensing Project Management, Office of Nuclear Reactor Regulation.

[FR Doc. 01-20533 Filed 8-14-01; 8:45 am]

BILLING CODE 7590-01-P